DEPARTMENT OF TRANSPORTATION

Federal Highway Administration

Notice of Final Federal Agency Actions on a Proposed Highway Project in Wisconsin

AGENCY: Federal Highway Administration (FHWA), U.S. Department of Transportation (DOT).

ACTION: Notice of limitation on claims for judicial review of actions by FHWA.

SUMMARY: This notice announces actions taken by the FHWA that are final. The actions required by applicable Federal environmental laws relate to a proposed highway project, the South Bridge Connector, in Brown County, Wisconsin. Those actions grant approvals for the project.

DATES: A claim seeking judicial review of the Federal agency actions on the proposed highway project will be barred unless the claim is filed on or before March 29, 2021. If the Federal law that authorizes judicial review of a claim provides a time period of less than 150 days for filing such claim, then that shorter time period still applies.

FOR FURTHER INFORMATION CONTACT: For FHWA: Glenn Fulkerson, Division Administrator, FHWA, 525 Junction Road, Suite 8000, Madison, Wisconsin 53717; telephone: (608) 829-7500. The FHWA Wisconsin Division's normal office hours are 7 a.m. to 4 p.m. Central time. For the Wisconsin Department of Transportation (WisDOT): Scott Lawry, Director, Bureau of Technical Services, WisDOT, 4822 Madison Yards Way, 5th Floor, Madison, Wisconsin 53705; telephone: (608) 266-2186. WisDOT's normal office hours are 7:30 a.m. to 4:30 p.m. Central time.

SUPPLEMENTARY INFORMATION: Notice is hereby given that FHWA has taken final agency actions subject to 23 U.S.C. 139(l)(1) by issuing approvals for the following highway project: The South Bridge Connector in Brown County, Wisconsin. The purpose of the project is to identify the most appropriate improvements for addressing existing east-west transportation demand and demand that will be generated by the planned development in the southern portion of the Green Bay metropolitan area. The selected alternative is a corridor approximately 6 miles long and 500 feet wide, beginning at the intersection of County EB (Packerland Drive) and County F in the Town of Lawrence, and ending at County X/GV (Monroe Road) in the Town of Ledgeview. From its western terminus, the County EB/F intersection, the route travels on new alignment to connect to a new full-access interchange on I-41. The route continues east on Southbridge Road and Red Maple Road, crosses the Fox River, and continues along Rockland Road. At the intersection of Rockland Road and County PP (South Broadway), the route continues northeast on new alignment and terminates at the intersection of County X and County GV (Monroe Road). The recently-completed environmental study for this project is a Tier 1 Environmental Impact Statement (EIS), and the selected alternative only approves the general (corridor) location for future improvements. The Lead Agencies will need to prepare Tier 2 design and environmental studies before any construction can occur. Even though the Tier 1 Final EIS and Record of Decision (ROD) do not identify a specific final design or build alternative, the current conceptual design for the selected corridor includes a four-lane divided arterial on a combination of new and existing alignment with shared-use path or sidewalk, a new interchange with I-41 at Southbridge Road, a new bridge over the Fox River, and reconstruction of the County F interchange with I-41.

The actions by FHWA on this project, and the laws under which such actions were taken, are described in the combined Tier 1 Final EIS and ROD, approved on October 16, 2020, and in other documents in the project file. The Lead Agencies prepared the combined Tier 1 Final EIS and ROD as a single document pursuant to 23 U.S.C. 139(n)(2). The Tier 1 Final EIS and ROD and other documents related to project approvals are available by contacting FHWA or WisDOT at the addresses provided above. The combined Tier 1 Final EIS and ROD and other project documents can be viewed and downloaded on the project website: https://www.browncountywi.gov/departments/planning-and-land-services/planning/south-bridge-connector/.

This notice applies to all Federal agency decisions as of the issuance date of this notice, and all laws under which such actions were taken, including but not limited to:

1. General: National Environmental Policy Act (NEPA) [42 U.S.C. 4321- 4351]; Federal-Aid Highway Act [23 U.S.C. 109, 23 U.S.C. 128, and 23 U.S.C. 139].

2. Air: Clean Air Act [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966 [54 U.S.C. 306108].

6. Social and Economic: Civil Rights Act of 1964 [42 U.S.C. 2000(d)-2000(d)(1)]; Uniform Relocation Assistance and Real Property Acquisition Act of 1970 [42 U.S.C. 61].

7. Wetlands and Water Resources: Clean Water Act [33 U.S.C. 1251- 1376].

8. Hazardous Materials: Comprehensive Environmental Response, Compensation, and Liability Act [42 U.S.C. 9601-9675].

9. Executive Orders: E.O. 11514 Protection and Enhancement of Environmental Quality; E.O. 11988 Floodplain Management; E.O. 11990 Protection of Wetlands; E.O. 12898 Federal Actions to Address Environmental Justice in Minority Populations and Low-Income Populations; E.O. 13112 Invasive Species; E.O. 13175 Consultation and Coordination with Indian Tribal Governments; E.O. 13186 Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139(l)(1).

Issued on: October 20, 2020.
Glenn Fulkerson,
Division Administrator, FHWA Wisconsin Division, Madison, Wisconsin.

[FR Doc. 2020-23593 Filed 10-29-20; 8:45 am]

BILLING CODE 4910-RY-P